DEPARTMENT OF VETERANS AFFAIRS

38 CFR Part 21

RIN 2900-AI74

Veterans Training: Vocational Rehabilitation Subsistence Allowance Rates

Correction

In rule document 00-21722 beginning on page 51763 in the issue of Friday, August 25, 2000, make the following corrections:

§21.260 [Corrected]

1. On page 51766, in §21.260, in paragraph (b)(3), in the table, in the last line, “¼ time3/su” should read “¼ time³”.

2. On the same page, in the same table, in the same line, the data should be shifted one column to the right, so that “96.97” is in the column for “No dependents”, “120.17” is in the column for “One dependent”, “141.25” is in the column for “Two dependents”, and “10.54” is in the column for “Additional amount for each dependent over two”.

3. On page 51767, in the same section, in paragraph (b)(5), in the table, eight lines down, “¾” should read “¾ time”.

4. On page 51768, in the same section, in paragraph (b)(7), in the table, 12 lines down, “Full-time only” should read “Full-time”.

5. On the same page, in the same table, in footnote 3, “(Authority: 38 U.S.C. 3108, 3115(a)(1); Pub. L. 103-446” is moved from the footnote to its own line below, to appear as follows:

(Authority: 38 U.S.C. 3108, 3115(a)(1); Pub. L. 103-446)

[FR Doc. C0-21722 Filed 10-11-00; 8:45 am]

BILLING CODE 1505-01-D